OFFICE OF THE UNITED STATES TRADE REPRESENTATIVE

Request for Comments on Additional Items for Potential Withdrawal of Tariff Concessions and Increase in Applied Duties in Response to European Union (EU) Enlargement and EU Changes to its Rice Import Regime

AGENCY: Office of the United States Trade Representative.

ACTION: Request for comments.

SUMMARY: The Office of the U.S. Trade Representative seeks comments concerning the addition of several types of cheese, peaches, mandarins and clementines, to a list of goods for which tariff concessions may be withdrawn and duties may be increased in the event the United States cannot reach agreement with the European Union (EU) for adequate compensation owed under World Trade Organization (WTO) rules as a result of EU enlargement and EU changes to its rice import regime.

DATES: Persons wishing to provide written public comments are required to do so no later than noon on Wednesday, September 29, 2004.

ADDRESSES: Submissions by electronic mail to FR0443@ustr.eop.gov. Submissions by facsimile to: Anita Thomas at fax: (202) 395-3974. The public is strongly encouraged to submit documents electronically rather than by facsimile. (See requirements for submissions below).

FOR FURTHER INFORMATION CONTACT: For questions contact Lisa Errion, Office of Europe and the Mediterranean, at (202) 395-3320.

SUPPLEMENTARY INFORMATION: By Federal Register Vol. 69, No. 175/Friday, September 10, 2004, p. 54827-54849, “Request for Comments and Notice of Public Hearing on Potential Withdrawal of Tariff Concessions and Increase in Applied Duties in Response to European Union (EU) Enlargement and EU Changes to Its Rice Regime,” the Office of the U.S. Trade Representative sought comments concerning the list of goods for which tariff concessions might be withdrawn and duties might be increased in the event the United States could not reach agreement with the European Union (EU) for adequate compensation owed under World Trade Organization (WTO) rules as a result of EU enlargement and EU changes to its rice import regime. The United States has received public comment regarding the addition of several types of cheese, peaches, mandarins and clementines to this list. Public written testimony requesting the addition of several types of cheese and of peaches is available in the USTR Reading Room, by appointment only, from 10 a.m. to 12 noon and 1 p.m. to 4 p.m., Monday through Friday. An appointment to review the file may be made by calling (202) 395-6186. It is also available on USTR's Web site at: www.ustr.gov/World_Regions/Europe_Mediterranean/European_Union/Section_Index.html.

Public Comment

Written comments of interested persons should be limited to the following issues: (1) The appropriateness of withdrawing WTO tariff concessions upon the products listed in the Annex to this notice; (2) the appropriateness of imposing increased duties upon the products listed in the Annex to this notice; (3) the levels at which U.S. customs duties should be set for particular items; and (4) the degree to which increased duties might have an adverse effect upon U.S. consumers of the products listed in the Annex.

Requirements for Submissions

In order to facilitate prompt processing of submissions, the TPSC strongly urges and prefers electronic (e-mail) submissions in response to this notice. In the event that an e-mail submission is impossible, submissions should be made by facsimile.

Persons making submissions by e-mail should use the following subject line: “EU Enlargement/EU Rice Import Regime” followed by “Written Comments.” Documents should be submitted as either Adobe PDF, WordPerfect, MSWord, or text (.TXT) files. Supporting documentation submitted as spreadsheets are acceptable as Quattro Pro or Excel. For any document containing business confidential information submitted electronically, the file name of the business confidential version should begin with the characters “BC-”, and the file name of the public version should begin with the character “P-”. The “P-” or “BC-” should be followed by the name of the submitter. Persons who make submissions by e-mail should not provide separate cover letters; information that might appear in a cover letter should be included in the submission itself. Similarly, to the extent possible, any attachments to the submission should be included in the same file as the submission itself, and not as separate files.

Written comments, notices of testimony, and testimony will be placed in a file open to public inspection pursuant to 15 CFR 2003.5, except confidential business information exempt from public inspection in accordance with 15 CFR 2003.6. Confidential business information submitted in accordance with 15 CFR 2003.6 must be clearly marked “BUSINESS CONFIDENTIAL” at the top of each page, including any cover letter or cover page, and must be accompanied by a non-confidential summary of the confidential information. All public documents and non-confidential summaries shall be available for public inspection in the USTR Reading Room. The USTR Reading Room is open to the public, by appointment only, from 10 a.m. to 12 noon and 1 p.m. to 4 p.m., Monday through Friday. An appointment to review the file may be made by calling (202) 395-6186. General information concerning USTR may be obtained by accessing its Internet Web site (www.ustr.gov).

Annex: Proposed Additional Items

HTS# | Description | In quota/out of quota | MFN rate 2004 | MFN unit 2004 | Proposed new tariff rate unit
04062085 | Cheese (including mixtures), nesoi, n/o 0.5% by wt. of butterfat, grated or powdered, subject to add. U.S. note 23 to Ch. 4 | IQ | 10% |  | 55%
04062089 | Cheese (including mixtures), nesoi, o/0.5% by wt. of butterfat, w/cow's milk, grated or powdered, subject to add. U.S. note 16 to Ch. 4 | IQ | 10% |  | 55%
04063085 | Processed cheese (incl. mixtures), nesoi, n/o 0.5% by wt. butterfat, not grated or powdered, subject to Ch. 4 U.S. note 23, not GN15 | IQ | 10% |  | 55%
04064048 | Stilton cheese, nesoi, not in original loaves, subject to add. U.S. note 24 to Ch. 4 | IQ | 17% |  | 55%
04069016 | Edam and gouda cheese, nesoi, subject to add. U.S. note 20 to Ch. 4 | IQ | 15% |  | 55%
04069042 | Romano, Reggiano, Parmesan, Provolone, and Provoletti cheese, nesoi, from cow's milk, not subj. to GN 15 or Ch. 4 U.S. note 21 | OQ | 2.146 | $/kg | 3.7875 $/kg
04069093 | Cheeses & subst. for cheese (incl. mixt.), nesoi, w/butterfat n/o 0.5% by wt., subject to add. U.S. note 23 to Ch. 4, not GN15 |  | 10% |  | 55%
04069099 | Cheeses & subst. for cheese (incl. mixt.), nesoi, w/o cow's milk, w/butterfat o/0.5% by wt., not GN15 |  | 8.5% |  | 55%
08052000 | Mandarins (including tangerines and satsumas); clementines, wilkings and similar citrus hybrids, fresh or dried |  | 1.9 | cents/kg | 3.3 cents/kg
20087020 | Peaches (excluding nectarines), otherwise prepared or preserved, not elsewhere specified or included |  | 17% |  | 55%

Carmen Suro-Bredie,
Chairman, Trade Policy Staff Committee.

[FR Doc. 04-21762 Filed 9-27-04; 8:45 am]

BILLING CODE 3190-W4-P